DEPARTMENT OF HOMELAND SECURITY

U.S. Citizenship and Immigration Services

[CIS No. 2650-19; DHS Docket No. USCIS-2019-0014]

RIN 1615-ZB82

Registration Requirement for Petitioners Seeking To File H-1B Petitions on Behalf of Cap-Subject Aliens

AGENCY: U.S. Citizenship and Immigration Services, Department of Homeland Security.

ACTION: Notice.

SUMMARY: U.S. Citizenship and Immigration Services (USCIS) is announcing the implementation of the H-1B registration process for H-1B cap-subject petitions. The initial H-1B petition registration period will begin on March 1, 2020. Starting on that date, USCIS will require H-1B cap-subject petitioners, including those eligible for the advanced degree exemption, to first register electronically with USCIS and pay the associated H-1B registration fee before being eligible to properly file an H-1B cap-subject petition for the Fiscal Year 2021 H-1B numerical allocations. USCIS intends to close the initial registration period on March 20, 2020 and will announce the actual end date on its website. After the initial registration period closes, USCIS will conduct the initial selection process, and petitioners with selected registrations will be eligible to file an H-1B cap-subject petition for those selected registrations during the associated filing period.

DATES: This notice is effective on January 9, 2020.

FOR FURTHER INFORMATION CONTACT: Charles Nimick, Chief, Business and Foreign Workers Division, Office of Policy and Strategy, U.S. Citizenship and Immigration Services, U.S. Department of Homeland Security, by mail at 20 Massachusetts Avenue NW, Washington, DC 20529-2060; or by phone at 202 272-8377.

SUPPLEMENTARY INFORMATION:

I. Background on H-1B Registration

On January 31, 2019, the Department of Homeland Security (DHS) published a final rule ¹ requiring petitioners seeking to file H-1B cap-subject petitions, including those eligible for the advanced degree exemption, to first electronically register with USCIS during a designated registration period, unless the requirement is suspended (“H-1B registration final rule”). See 8 CFR 214.2(h)(8)(iii)(A)(1). In the final rule, DHS announced that USCIS was suspending the registration requirement for the Fiscal Year (FY) 2020 cap season to complete all requisite user testing of the new H-1B registration system and otherwise ensure the system and process are operable. DHS has completed all requisite user testing and is implementing the registration process in advance of the H-1B cap season for FY 2021.

¹ See 84 FR 888 (Jan. 31, 2019).

DHS stated in the H-1B registration final rule that it will publish a notice in the Federal Register to announce the initial implementation of the registration process before the first H-1B cap season that would use the process. Once USCIS implements the registration process, it will announce subsequent registration periods for each fiscal year on its website.

On November 8, 2019, DHS published a final rule amending its regulations to require a $10 fee for each registration submitted for the H-1B cap selection process. See 8 CFR 103.7(b)(1)(i)(NNN).

II. Participation in Registration

As explained in the H-1B registration final rule, before a petitioner can file an H-1B cap-subject petition, including those eligible for the advanced degree exemption, the petitioner must first electronically register with USCIS. See 8 CFR 214.2(h)(8)(iii)(A)(1).

USCIS will not consider an H-1B cap-subject petition to be properly filed unless it is based on a valid registration selection for the applicable fiscal year. See 8 CFR 214.2(h)(8)(iii)(A)(1) and (D).

III. When To Register

The initial registration period will start March 1, 2020. USCIS intends to close the initial registration period on March 20, 2020 and will announce the actual end date of the initial registration period on its website at www.uscis.gov pursuant to 8 CFR 214.2(h)(8)(iii)(A)(3). If USCIS determines at the end of the initial registration period that an insufficient number of registrations have been received, USCIS will determine the final registration date once it has received the number of registrations projected as needed to reach the numerical allocations. If USCIS determines that it is necessary to re-open the registration period, USCIS will announce the start of the re-opened registration period on the USCIS website at www.uscis.gov. See 8 CFR 214.2(h)(8)(iii)(A)(3) and (7).

IV. How To Register

Petitioners must register using an online account. USCIS will provide step-by-step instructions on its website at www.uscis.gov.

Employers and authorized representatives may start setting up their registration accounts in advance of the registration period opening. USCIS will post the date that employers and authorized representatives may start setting up accounts on its website. Employers and authorized representatives will be able to continue to set up accounts during the registration period and may immediately use those accounts to register. They may also set up accounts after the registration period to use for later years. A petitioner or its authorized representative must electronically submit a separate registration request naming each individual it seeks to petition for a cap-subject H-1B. Petitioners will be able to register multiple individuals in a single online session. The electronic system will allow for a filer to prepare, edit and store the record in their account prior to final payment and submission. A petitioner may only submit one registration per beneficiary in any fiscal year. See 8 CFR 214.2(h)(8)(iii)(A)(2). If a petitioner submits more than one registration for the same beneficiary in the same fiscal year, USCIS will consider all registrations filed by that petitioner for that beneficiary for that fiscal year invalid. Id.

V. Registration Selection

USCIS will send notices electronically to all registrants with selected registrations that they are eligible to file an H-1B cap-subject petition on behalf of the individual named in the notice within the filing period indicated on the notice. See 8 CFR 214.2(h)(8)(iii)(C). The notifications will be added to registration accounts. The account holder who submitted the selected registration will receive notification via email or text message stating that an action has been added to their account, and they will have to log in to see the full notice. USCIS intends to notify registrants with selected registrations from the initial registration period no later than March 31, 2020.

Chad F. Wolf,
Acting Secretary.

[FR Doc. 2020-00182 Filed 1-8-20; 8:45 am]

BILLING CODE 9111-97-P